DEPARTMENT OF COMMERCE

National Telecommunications and Information Administration

Nevada Broadband Workshop

AGENCY: National Telecommunications and Information Administration, U.S. Department of Commerce.

ACTION: Notice of open meeting.

SUMMARY: The National Telecommunications and Information Administration's (NTIA) BroadbandUSA Program will host a Broadband Workshop in Carson City, Nevada on January 11, 2019. The purpose of the Workshop is to engage the public and stakeholders with information to accelerate broadband connectivity, improve digital inclusion, and support local priorities. The Workshop will provide information on topics including local broadband planning, funding, and engagement with service providers. Speakers and attendees from Nevada, federal agencies, and across the country will come together to explore ways to facilitate the expansion of broadband capacity, access, and utilization.

DATES: The Broadband Workshop will be held on January 11, 2019, from 9:00 a.m. until 3:00 p.m. Pacific Time.

ADDRESSES: The Broadband Workshop will be held in Carson City, Nevada at the Nevada Legislative Counsel Bureau, 401 South Carson Street, Carson City, NV 89701.

FOR FURTHER INFORMATION, CONTACT: Janice Wilkins, National Telecommunications and Information Administration, U.S. Department of Commerce, Room 4678, 1401 Constitution Avenue NW, Washington, DC 20230; telephone: (202) 482-5791; email: broadbandusaevents@ntia.doc.gov. Please direct media inquiries to NTIA's Office of Public Affairs, (202) 482-7002; email: press@ntia.doc.gov.

SUPPLEMENTARY INFORMATION: The NTIA's BroadbandUSA program promotes innovation and economic growth by supporting efforts to expand broadband access and meaningful use across America.

The Broadband Workshop is open to the public. Pre-registration is requested because space may be limited. NTIA asks registrants to provide their first and last name, title, organization/company, and email address for registration purposes, name tags to be provided at the workshop, and to receive any updates on the workshop. Information about the workshop is subject to change. Registration information, meeting updates, including changes in the agenda, and relevant documents will be available on NTIA's website at https://broadbandusa.ntia.doc.gov/NevadaBroadbandWorkshop2019.

The public meeting is physically accessible to people with disabilities. Individuals requiring accommodations, such as language interpretation or other ancillary aids, should notify Janice Wilkins at the contact information listed above at least ten (10) business days before the meeting so that accommodations can be made.

Dated: November 9, 2018.
Kathy D. Smith,
Chief Counsel, National Telecommunications and Information Administration.

[FR Doc. 2018-25008 Filed 11-15-18; 8:45 am]

BILLING CODE 3510-60-P